DEPARTMENT OF THE INTERIOR

Fish and Wildlife Service

[FWS-R2-ES-2021-N196; FXES11160200000-223-FF02ENEH00]

Draft Environmental Assessment for Amendments to the Candidate Conservation Agreement/Candidate Conservation Agreement With Assurances for the Lesser Prairie-Chicken (Tympanuchus pallidicinctus) and Dunes Sagebrush Lizard (Sceloporus arenicolus) in New Mexico

AGENCY: Fish and Wildlife Service, Interior.

ACTION: Notice of availability of documents; request for public comment.

SUMMARY: We, the U.S. Fish and Wildlife Service (Service), announce the availability of a draft environmental assessment (EA), under the National Environmental Policy Act, that evaluates the impacts of proposed amendments to the Candidate Conservation Agreement/Candidate Conservation Agreement with Assurances for the Lesser Prairie-chicken (Tympanuchus pallidicinctus) and Dunes Sagebrush Lizard (Sceloporus arenicolus) in New Mexico (CCA/CCAA). We invite comments on the draft EA and related documents from the public and Federal, Tribal, State, and local governments.

DATES: Comments: To ensure consideration, written comments must be received or postmarked on or before March 11, 2022. Any comments we receive after the closing date or not postmarked by the closing date may not be considered in the final decision on this action.

ADDRESSES:

Obtaining documents: You may obtain copies of the draft EA, proposed amendments, or other related documents on the internet at https://www.fws.gov/southwest/es/NewMexico/.

Submitting comments: You may submit written comments by email to nmesfo@fws.gov. Please note that your comment is in reference to the above-referenced CCA/CCAA. For more information, see Public Availability of Comments.

FOR FURTHER INFORMATION CONTACT: Shawn Sartorius, Field Supervisor, U.S. Fish and Wildlife Service, Albuquerque, New Mexico, Ecological Services Office; telephone 505-761-4781. Hearing or speech impaired individuals may call the Federal Relay Service at 800-877-8339 for TTY service.

SUPPLEMENTARY INFORMATION: We, the U.S. Fish and Wildlife Service (Service), announce the availability of a draft environmental assessment (EA), under the National Environmental Policy Act of 1969 (NEPA; 42 U.S.C. 4321 et seq.), that evaluates the impacts of proposed amendments to the Candidate Conservation Agreement (CCA) and Candidate Conservation Agreement with Assurances (CCAA) for the Lesser Prairie-chicken (LPC) and Dunes Sagebrush Lizard (DSL) in New Mexico.

This notice advises the public that we have gathered the information necessary to determine impacts of the proposed amendments on the CCA/CCAA and the associated enhancement of survival permit (permit) under section 10(a)(1)(A) of the Endangered Species Act of 1973, as amended (ESA; 16 U.S.C. 1531 et seq.). We are accepting comments on the proposed amendments and the draft EA.

Background

The CCA/CCAA were signed by Federal and State authorities in 2008 for 20 years (2008-2028). The CCA/CCAA are voluntary candidate conservation agreements, administered by the Center of Excellence (CEHMM), that allow for implementation of conservation measures to benefit the LPC and DSL in a landscape-level approach on both Federal and non-Federal lands. The CCA allows for enrollment by Federal lessees and permittees, including ranchers and industry lessees, giving them a high degree of certainty that no additional conservation measures will be required of participants if either species were to be listed. In the event that either species is listed, incidental take coverage will be provided by an ESA section 7 biological opinion for conservation actions undertaken on Federal lands. Under the CCAA, conservation of the LPC and DSL will be implemented on non-Federal lands by enrolled participants. Through the CCAA, enrolled landowners or cooperators receive assurance that they will not incur additional land use restrictions on enrolled lands in the event either species is listed.

Proposed Action

The Service is proposing to amend the CCA/CCAA to remove barriers to increased participation in the CCA/CCAA. The amendments will: Add an enrollment option to cover all activities for participants in the covered area, reclassify habitat categories based on LPC habitat and lek locations, add certificates of participation and/or inclusion (CP/CI) tailored to companies that develop linear infrastructure (e.g., midstream, transmission, and utility), reduce enrollment fees for new parcel-by-parcel enrollments, and add an annual inflation adjustment for all habitat conservation fees. Conservation measures and covered activities will not change from the original CCA/CCAA.

The CCA/CCAA covers all lands currently occupied or potentially occupied by the LPC or DSL in New Mexico. This includes approximately 2,200 square miles in the southeastern section of the State, within portions of Lea, Eddy, DeBaca, Curry, Roosevelt, Quay, and Chaves Counties. The Service has assessed the potential impacts of the proposed amendments on the CCA/CCAA and the associated permit that was issued with the original CCA/CCAA in 2008, as well as the original EA from 2008. There are no proposed changes to the federally listed species, or the area covered by the CCA/CCAA and permit. In addition, the amendments are not expected to result in impacts beyond those identified in the original EA.

The proposed CCA/CCAA amendments are not expected to significantly affect industry or ranching activities but would help support these activities by streamlining ESA compliance, while continuing conservation efforts for the LPC and DSL. These amendments are expected to trigger no new environmental consequences; no new impacts to local economies or cultural resources; and no changes to direct, indirect, and cumulative effects. The amendments would not authorize any additional activities or incidental take. The same types and quantities of activities previously described in the original EA are expected to occur with the proposed amendments.

Next Steps

We will evaluate the draft amendments, draft EA, and comments we receive during the comment period to determine whether the proposed amendment meets the requirements of ESA, NEPA, and implementing regulations. If we determine that all requirements are met, we will approve the proposed amendment to the CCA/CCAA. We will not make our final decision until after the 30-day comment period ends and we have fully considered all comments received during the public comment period.

Public Availability of Comments

All comments we receive become part of the public record associated with this action. Requests for copies of comments will be handled in accordance with the Freedom of Information Act, NEPA, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under the authority of section 10(c) of the ESA and its implementing regulations (50 CFR 17.22 and 17.32) and NEPA (42 U.S.C. 4371 et seq.) and its implementing regulations (40 CFR 1506.6).

Amy Lueders,
Regional Director, Southwest Region, U.S. Fish and Wildlife Service.

[FR Doc. 2022-02878 Filed 2-8-22; 8:45 am]

BILLING CODE 4333-15-P